DEPARTMENT OF ENERGY

Energy Efficiency and Renewable Energy Office

10 CFR Part 430

[EERE-2017-BT-NOA-0052]

Energy Conservation Program: General Service Incandescent Lamps and Other Incandescent Lamps Request for Data

AGENCY: Office of Energy Efficiency and Renewable Energy, Department of Energy.

ACTION: Notification of data availability (NODA); request for information (RFI).

SUMMARY: The U.S. Department of Energy (DOE) seeks annual domestic sales and shipment data for general service incandescent lamps (GSILs) and other incandescent lamps. DOE intends to use this sales data from stakeholders to inform its decision on whether to amend standards for GSILs.

DATES: DOE will accept comments, data, and information regarding this NODA received no later than October 16, 2017.

ADDRESSES: Interested persons are encouraged to submit comments, data and information using the Federal eRulemaking Portal at http://www.regulations.gov. Follow the instructions for submitting comments. Alternatively, interested persons may submit comments, identified by docket number EERE-2017-BT-NOA-0052, by any of the following methods:

1. Federal eRulemaking Portal: http://www.regulations.gov. Follow the instructions for submitting comments.

2. Email: GSIL2017NOA0052@ee.doe.gov. Include the docket number in the subject line of the message.

3. Postal Mail: Appliance and Equipment Standards Program, U.S. Department of Energy, Building Technologies Office, Mailstop EE-5B, 1000 Independence Avenue SW., Washington, DC 20585-0121. Telephone: (202) 287-1445. If possible, please submit all items on a compact disc (CD), in which case it is not necessary to include printed copies.

4. Hand Delivery/Courier: Appliance and Equipment Standards Program, U.S. Department of Energy, Building Technologies Office, 950 L'Enfant Plaza SW., Suite 600, Washington, DC 20024. Telephone: (202) 287-1445. If possible, please submit all items on a CD, in which case it is not necessary to include printed copies.

For detailed instructions on submitting comments and additional information on the NODA, see section IV, Submission of Comments.

Docket: The docket, which includes Federal Register notices, and other supporting documents/materials, is available for review at http://www.regulations.gov. All documents in the docket are listed in the http://www.regulations.gov index. However, some documents listed in the index, such as those containing information that is exempt from public disclosure, may not be publicly available.

The docket Web page can be found at http://www.regulations.gov. The docket Web page will contain simple instructions on how to access all documents, including public comments, in the docket. See section IV for information on how to submit comments through http://www.regulations.gov.

FOR FURTHER INFORMATION CONTACT:

Ms. Lucy deButts, U.S. Department of Energy, Office of Energy Efficiency and Renewable Energy, Building Technologies, EE-2J, 1000 Independence Avenue SW., Washington, DC 20585-0121. Telephone: (202) 287-1604. Email: ApplianceStandardsQuestions@ee.doe.gov.

Ms. Celia Sher, U.S. Department of Energy, Office of the General Counsel, GC-33, 1000 Independence Avenue SW., Washington, DC 20585-0121. Telephone: (202) 287-6122. Email: Celia.Sher@hq.doe.gov.

For further information on how to submit a comment or review other public comments and the docket, contact the Appliance and Equipment Standards Program staff at (202) 287-1445 or by email: ApplianceStandardsQuestions@ee.doe.gov.

SUPPLEMENTARY INFORMATION:

Table of Contents

I. Background

II. Data

III. Conclusion

IV. Submission of Comments

I. Background

Amendments to the Energy Policy and Conservation Act of 1975 (EPCA),¹ Public Law 94-163 (42 U.S.C. 6291-6317, as codified), in the Energy Independence and Security Act of 2007 (EISA 2007) direct DOE to conduct two rulemaking cycles to evaluate energy conservation standards for general service lamps (GSLs). (42 U.S.C. 6295(i)(6)(A)-(B)) GSLs are defined in EPCA to include GSILs, compact fluorescent lamps (CFLs), general service light-emitting diode (LED) and organic light-emitting diode (OLED) lamps, and any other lamps that the Secretary of Energy (Secretary) determines are used to satisfy lighting applications traditionally served by general service incandescent lamps.

¹ All references to EPCA refer to the statute as amended through the Energy Efficiency Improvement Act of 2015, Public Law 114-11 (April 30, 2015).

For the first rulemaking cycle, Congress instructed DOE to initiate a rulemaking process prior to January 1, 2014, to consider two questions: (1) Whether to amend energy conservation standards for general service lamps and (2) whether “the exemptions for certain incandescent lamps should be maintained or discontinued.” (42 U.S.C. 6295(i)(6)(A)(i)) Further, if the Secretary determines that the standards in effect for GSILs should be amended, EPCA provides that a final rule must be published by January 1, 2017, with a compliance date at least 3 years after the date on which the final rule is published. (42 U.S.C. 6295(i)(6)(A)(iii)) In developing such a rule, DOE must consider a minimum efficacy standard of 45 lumens per watt (lm/W). (42 U.S.C. 6295(i)(6)(A)(ii)) If DOE fails to complete a rulemaking in accordance with 42 U.S.C. 6295(i)(6)(A)(i)-(iv) or a final rule from the first rulemaking cycle does not produce savings greater than or equal to the savings from a minimum efficacy standard of 45 lm/W, the statute provides a “backstop” under which DOE must prohibit sales of GSLs that do not meet a minimum 45 lm/W standard beginning on January 1, 2020. (42 U.S.C. 6295(i)(6)(A)(v))

DOE initiated the rulemaking process in a timely manner by publishing in the Federal Register a notice of availability of a framework document. 78 FR 73737 (Dec. 9, 2013); see also 79 FR 73503 (Dec. 11, 2014) (notice of availability of preliminary analysis). DOE later issued a notice of proposed rulemaking (NOPR) to propose amended energy conservation standards for GSLs. 81 FR 14528, 14629-14630 (Mar. 17, 2016). The March 2016 NOPR focused on the first question that Congress directed DOE to consider—whether to amend energy conservation standards for general service lamps. (42 U.S.C. 6295(i)(6)(A)(i)(I)) In the March 2016 NOPR proposing energy conservation standards for GSLs, DOE stated that it would be unable to undertake any analysis regarding GSILs and other incandescent lamps because of a then applicable congressional restriction (the Appropriations Rider ²) on the use of appropriated funds to implement or enforce 10 CFR 430.32(x). 81 FR 14528, 14540-14541. Notably, the applicability of this Appropriations Rider has not been extended in the current appropriations statute, and thus is no longer in effect.³ As a result, DOE is no longer prevented from undertaking analysis and decision making required by the first question presented by Congress, i.e., whether to amend energy conservation standards for general service lamps, including GSILs.

² Section 312 of the Consolidated and Further Continuing Appropriations Act, 2016 (Pub. L. 114-113, 129 Stat. 2419) prohibits expenditure of funds appropriated by that law to implement or enforce: (1) 10 CFR 430.32(x), which includes maximum wattage and minimum rated lifetime requirements for GSILs; and (2) standards set forth in section 325(i)(1)(B) of EPCA (42 U.S.C. 6295(i)(1)(B)), which sets minimum lamp efficiency ratings for incandescent reflector lamps.

³ See, the Consolidated Appropriations Act of 2017 (Pub. L. 115-31, div. D, tit. III).

In response to comments to the March 2016 NOPR, DOE conducted additional research and published a notice of proposed definition and data availability (NOPDDA), which proposed to amend the definitions of GSIL and GSL. 81 FR 71794, 71815 (Oct. 18, 2016). DOE explained that the October 2016 NOPDDA related to the second question that Congress directed DOE to consider—whether “the exemptions for certain incandescent lamps should be maintained or discontinued.” (42 U.S.C. 6295(i)(6)(A)(i)(II)); see also 81 FR 71798. The relevant “exemptions,” DOE explained, referred to the 22 categories of incandescent lamps that are statutorily excluded from the definitions of GSIL and GSL. 81 FR 71798.

On January 19, 2017, DOE published the two final rules concerning the definition of GSL. 82 FR 7276; 82 FR 7322. The January 2017 definition final rules amended the definitions of GSIL and GSL by bringing some of the statutorily-excluded categories of lamps within the definitions of GSIL and GSL. Like the October 2016 NOPDDA, the January 2017 definition final rules related to the second question that Congress directed DOE to consider, regarding whether to maintain or discontinue certain “exemptions.” (42 U.S.C. 6295(i)(6)(A)(i)(II))

The January 2017 definition final rules did not make a determination regarding “whether [DOE] should impose or amend standards for any category of lamps, such as GSILs or GSLs.” 82 FR 7277. Thus, by its own statement, DOE has not yet made a determination on whether standards applicable to GSILs should be amended, as required by statute. (42 U.S.C. 6295(i)(6)(A)(i)(I))

II. Data

DOE has gathered preliminary data for GSILs and other incandescent lamps—both incandescent lamps specifically exempt from the currently effective definition of GSIL and incandescent lamps not included in the GSIL definition. The following paragraphs describe the data sources and methods used to estimate annual sales for these products.

General service incandescent lamp means a standard incandescent or halogen type lamp that is intended for general service applications; has a medium screw base; has a lumen range of not less than 310 lumens and not more than 2,600 lumens or, in the case of a modified spectrum lamp, not less than 232 lumens and not more than 1,950 lumens; and is capable of being operated at a voltage range at least partially within 110 and 130 volts. 10 CFR 430.2. As mentioned above, as a result of the previously effective Appropriations Rider, DOE was unable to undertake any analysis regarding GSILs when considering amended energy conservation standards for general service lamps. Therefore the January 2017 definition final rules, March 2016 NOPR, and previous rulemaking documents for general service lamps did not contain shipment data for GSILs. In reviewing existing data sources, the 2010 U.S. Lighting Market Characterization ⁴ (LMC) report estimated an installed stock of 2.1 billion general service A-type incandescent and general service halogen lamps in 2010. DOE has used estimates of shipments of traditional and halogen incandescent A-type lamps to the U.S. market in 2010, developed by the Cadeo Group ⁵, and the corresponding lamp shipments indices published periodically by NEMA ⁶ to generate an estimate for the sales of GSILs from 2011 to 2015 (shown in Table II.1).

⁴ Navigant Consulting, Inc. Final Report: 2010 U.S. Lighting Market Characterization. 2012. U.S. Department of Energy. (Last accessed July 31, 2017.) http://apps1.eere.energy.gov/buildings/publications/pdfs/ssl/2010-lmc-final-jan-2012.pdf.

⁵ Carmichael, R. GSL Shipments and Lumen Bin Distribution Data. Cadeo Group. Contract 7094760-T2D: Washington, DC

⁶ National Electrical Manufacturers Association. Lamp Indices. (Last accessed August 1, 2017.) http://www.nema.org/Intelligence/Pages/Lamp-Indices.aspx.

Table II.1—Estimate of Annual Sales of GSILs
Incandescent lamp category | Estimated annual sales: 2011 | Estimated annual sales: 2012 | Estimated annual sales: 2013 | Estimated annual sales: 2014 | Estimated annual sales: 2015
GSILs * | 737,000,000 | 634,000,000 | 626,000,000 | 499,000,000 | 441,000,000
* Estimated annual sales of GSILs are based on the NEMA lamp indices ⁶ and estimates of shipments of traditional and halogen incandescent A-line lamps in 2010, developed by the Cadeo Group.⁵

The currently effective GSIL definition does not include 22 specific incandescent lamp categories. In the October 2016 NOPDDA, DOE presented estimates for the annual shipments of each incandescent lamp type exempt from the definition of GSIL. 81 FR 71794, 71799 (October 18, 2016). DOE asked for and received comments on these numbers and provided revised estimates in the January 2017 definition final rules. 82 FR 7276, 7291 (January 19, 2017) and 82 FR 7322, 7327 (January 19, 2017). In their comment on the October 2016 NOPDDA, the National Electrical Manufacturers Association (NEMA) noted that it collected data from certain of its members that manufacture specialty incandescent lamps and provided historical data for those products when possible. NEMA stated that sales and shipments of specialty incandescent lamps are declining, as indicated by the data provided and the confirmation of the trend by its members. (NEMA, No. 93 at pp. 9-10) ⁷ Shipments estimates for reflector lamps exempt from the currently effective definition of GSIL have been updated based on the stock of traditional and halogen incandescent reflector lamps in the 2010 LMC report ⁴, estimates of the average service lifetime for such lamps, and projections of solid state lighting (SSL) adoption from DOE's SSL program ⁸, as detailed in the Lawrence Berkeley National Laboratory (LBNL) report “Impact of the EISA 2007 Energy Efficiency Standard on General Service Lamps” ⁹ (LBNL GSL report). Table II.2 summarizes the annual and historical sales estimates for incandescent lamps exempt from the currently effective definition of GSIL.

⁷ A notation in this form provides a reference for information that is in the docket of DOE's rulemaking to develop energy conservation standards for GSLs (Docket No. EERE-2013-BT- STD-0051), which is maintained at http://www.regulations.gov. This notation indicates that the statement preceding the reference was made by NEMA, is from document number 93 in the docket, and appears at pages 9-10 of that document.

⁸ Navigant Consulting, Inc. Energy Savings Forecast of Solid-State Lighting in General Illumination Applications. 2014. U.S. Department of Energy. (Last accessed August 2, 2017.) https://energy.gov/eere/ssl/downloads/energy-savings-forecast-solid-state-lighting-general-illumination-applications.

⁹ Kantner, C.L.S., A.L. Alstone, M. Ganeshalingam, B.F. Gerke, and R. Hosbach. Impact of the EISA 2007 Energy Efficiency Standard on General Service Lamps. 2017. Lawrence Berkeley National Laboratory: Berkeley, CA. Report No. LBNL-1007090 REV. (Last accessed August 2, 2017.) https://eta.lbl.gov/sites/default/files/publications/lbnl-1007090-rev.pdf.

Table II.2—Estimate of Annual Sales of Incandescent Lamps Exempt From the Currently Effective Definition of GSIL
GSIL exempted lamp category | Estimated annual sales: 2011 | Estimated annual sales: 2012 | Estimated annual sales: 2013 | Estimated annual sales: 2014 | Estimated annual sales: 2015
Appliance Lamp | N/A | N/A | N/A | N/A | ~2,000,000
Black Light Lamp | N/A | N/A | N/A | N/A | <1,000,000
Bug Lamp | N/A | N/A | N/A | N/A | <1,000,000
Colored Lamp | N/A | N/A | N/A | N/A | <2,000,000
Infrared Lamp | N/A | N/A | N/A | N/A | <1,000,000
Left-Hand Thread Lamp | N/A | N/A | N/A | N/A | <1,000,000
Marine Lamp | N/A | N/A | N/A | N/A | <1,000,000
Marine Signal Service Lamp | N/A | N/A | N/A | N/A | <1,000,000
Mine Service Lamp | N/A | N/A | N/A | N/A | <1,000,000
Plant Light Lamp | N/A | N/A | N/A | N/A | <1,000,000
Reflector Lamp * | 308,000,000 | 312,000,000 | 315,000,000 | 319,000,000 | 316,000,000
Rough Service Lamp ** | 6,829,000 | 6,045,000 | 6,237,000 | 7,267,000 | 10,914,000
Shatter-Resistant Lamp ** | 1,210,000 | 1,455,000 | 1,093,000 | 1,042,000 | 689,000
Sign Service Lamp | N/A | N/A | N/A | N/A | ~1,000,000
Silver Bowl Lamp | N/A | N/A | N/A | N/A | ~1,000,000
Showcase Lamp | N/A | N/A | N/A | N/A | <1,000,000
3-way Incandescent Lamp ** | 31,619,000 | 28,854,000 | 34,773,000 | 35,340,000 | 32,665,000
Traffic Signal Lamp *** | N/A | 496,686 | 408,764 | 277,020 | 168,178
Vibration Service Lamp ** | 914,000 | 1,077,000 | 1,407,000 | 5,220,000 | 7,071,000
G shape Lamp with diameter of 5 inches or more *** | N/A | 1,361,735 | 1,010,423 | 938,600 | 859,867
T shape lamp of 40 W or less or length of 10 inches or more *** | N/A | 11,168,553 | 11,507,467 | 10,529,062 | 9,750,395
B, BA, CA, F, G16-1/2, G25, G30, S, M-14 lamp of 40 W or less *** | N/A | 104,288,216 | 98,240,738 | 78,742,710 | 71,702,637
* These shipments were estimated based on stock estimates from the 2010 LMC report,⁴ lamp lifetime estimates, and projections from DOE's SSL program,⁸ as detailed in the LBNL GSL report.⁹
** EPCA directs DOE to collect unit sales data for calendar years 2010 through 2025, in consultation with NEMA, for rough service lamps, vibration service lamps, 3-way incandescent lamps, 2,601-3,300 lumen general service incandescent lamps, and shatter-resistant lamps. (42 U.S.C. 6295(l)(4)(C)) This data is available at http://www.regulations.gov/docket?D=EERE-2011-BT-NOA-0013.
*** These shipments were provided by NEMA in a comment on the October 2016 NOPDDA. (NEMA, No. 93 at pp. 17-19, 30).

In addition to GSILs and incandescent lamps specifically exempt from the definition of GSIL, there are several other categories of incandescent lamps. The definition of GSIL includes only lamps with medium screw bases, within a specific lumen range, and that can be operated at a voltage at least partially within 110 and 130 volts—leaving many other incandescent lamp categories unaddressed (e.g., incandescent lamps with lumen outputs greater than the 2,600 lumen upper limit specified in the GSIL definition; incandescent lamps with other base types, such as candelabra bases; and incandescent lamps that operate at other voltages, such as 12 volts).

DOE has data for certain incandescent lamps that do not meet the parameters of the GSIL definition. In consultation with NEMA, DOE has collected annual sales data for certain higher lumen lamps (>2,600 lumen to 3,300 lumen lamps). However, for the remaining incandescent lamp categories, again due to the previously applicable Appropriations Rider, the January 2017 definition final rules, March 2016 NOPR, and previous rulemaking documents for general service lamps did not contain shipment data. In reviewing existing data sources, DOE has estimated shipments for small-screw-base lamps (i.e., lamps with a screw base smaller than medium, such as candelabra base, intermediate base or mini-candelabra base lamps) and for multifaceted reflector (MR) lamps that typically have a bi-pin or twist and lock base. DOE has estimated shipments of these lamps from 2011 to 2015 (shown in Table II.3) based on regional socket surveys, lamp lifetime estimates, and projections from DOE's SSL program,⁸ as detailed in the LBNL GSL report.⁹

Table II.3—Estimate of Annual Sales of Other Incandescent Lamps
Incandescent lamp category | Estimated annual sales: 2011 | Estimated annual sales: 2012 | Estimated annual sales: 2013 | Estimated annual sales: 2014 | Estimated annual sales: 2015
Higher Lumen Incandescent Lamps (>2,600-3,300 lumens) * | 9,878,000 | 12,273,000 | 9,296,000 | 5,232,000 | 4,049,000
Small-Screw-Base Lamps (e.g., candelabra base lamps) ** | 201,000,000 | 203,000,000 | 205,000,000 | 208,000,000 | 209,000,000
MR lamps ** | 48,700,000 | 49,300,000 | 49,800,000 | 50,400,000 | 49,700,000
* EPCA directs DOE to collect unit sales data for calendar years 2010 through 2025, in consultation with NEMA, for rough service lamps, vibration service lamps, 3-way incandescent lamps, 2,601-3,300 lumen general service incandescent lamps, and shatter-resistant lamps. (42 U.S.C. 6295(l)(4)(C)) This data is available at http://www.regulations.gov/docket?D=EERE-2011-BT-NOA-0013.
** These shipments were estimated based on regional socket surveys, lamp lifetime estimates, and projections from DOE's SSL program,⁸ as detailed in the LBNL GSL report.⁹

DOE requests comment on the estimates contained in this notice as well as relevant lamp sales and market data to assist in its determination of whether standards in effect for GSILs and/or other incandescent lamps should be amended. In particular, the data in Table II.3 represents lamp categories that contain lamps with many different features. For example, the small-screw-base lamp category includes lamps with candelabra bases, intermediate bases, and other different base types. These lamps also have a variety of bulb shapes, such as candle, bullet, flame, etc. Further, some lamp categories may not be specifically listed in the tables above, such as pin base, non-reflector halogen lamps. To better understand the diversity of products in the incandescent lamp market, DOE requests information regarding the breakdown of sales by base type, bulb shape, lumen output, and voltage for all incandescent lamps.

DOE also requests information regarding the energy use and end-user cost of incandescent lamps. Specifically, DOE seeks information regarding the percent of each lamp category (based on the breakdown by base type, bulb shape, lumen output, and voltage mentioned in the previous paragraph) that utilizes standard technology versus more efficient halogen technology. DOE requests the average wattage, efficacy, lifetime, and operating hours in each lamp category for the standard technology product and more efficient version, if one is offered. In a comment on the December 2014 preliminary analysis for general service lamps, NEMA indicated that lamps using incandescent/halogen technology have low initial cost. (NEMA, No. 34 at pp. 12-13) DOE requests information on the distribution channels for incandescent lamps and particularly on whether first cost varies among incandescent lamp categories or between a standard technology and halogen technology product.

DOE also requests information on future shipments and market trends. As shown in the previous tables, while sales for certain lamp categories are increasing or staying relatively flat, sales for other categories have decreased. DOE requests information regarding factors influencing these trends and whether they are expected to continue in the future. In particular, for categories for which sales are decreasing, DOE requests information regarding what products consumers are purchasing as replacements. As DOE believes the demand for light is not significantly decreasing, DOE expects a decrease in sales for incandescent/halogen products to represent a shift in purchases to products using fluorescent and/or LED technology. DOE also request data and information on consumer lamp purchasing decisions and how these decisions have changed over time when certain products have become less available or more costly. DOE seeks comment on the potential for lamp switching and whether more efficacious substitutes exists for all GSILs and other incandescent lamps. Finally, DOE is aware that all incandescent lamps may not be used in general lighting applications. DOE seeks information on whether specific categories of incandescent lamps have features that constrain their use to unique applications and whether more efficient products can be adequate replacements in those applications.

Now that the Appropriations Rider has been removed, DOE will collect and use this information to analyze standards for GSILs, and undertake its responsibility to determine if standards in effect for GSILs should be amended. Further, because DOE had previously been prohibited from collecting data with respect to GSILs, any data received in response to this NODA could result in a reassessment of the assumptions and determinations made in the January 2017 definition final rules.

III. Conclusion

The purpose of this NODA is to collect data for GSILs and other incandescent lamps in order to assist DOE in making a determination regarding whether standards for GSILs should be amended.

IV. Submission of Comments

DOE invites all interested parties to submit in writing by October 16, 2017, comments, data, and information on all aspects of this NODA.

Submitting comments via regulations.gov. The http://www.regulations.gov Web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to http://www.regulations.gov information for which disclosure is restricted by statute, such as trade secrets and commercial or financial information (hereinafter referred to as Confidential Business Information (CBI)). Comments submitted through http://www.regulations.gov cannot be claimed as CBI. Comments received through the Web site will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email, hand delivery, or mail. Comments and documents submitted via email, hand delivery, or mail also will be posted to http://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via mail or hand delivery, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery two well-marked copies: One copy of the document marked confidential including all the information believed to be confidential, and one copy of the document marked non-confidential with the information believed to be confidential deleted. Submit these documents via email or on a CD, if feasible. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

It is DOE's policy that all comments may be included in the public docket, without change and as received, including any personal information provided in the comments (except information deemed to be exempt from public disclosure).

Issued in Washington, DC, on August 8, 2017.
Steven Chalk,
Acting Deputy Assistant Secretary for Energy Efficiency, Energy Efficiency and Renewable Energy.

[FR Doc. 2017-17212 Filed 8-14-17; 8:45 am]

BILLING CODE 6450-01-P